DEPARTMENT OF TRANSPORTATION

Federal Highway Administration

Environmental Impact Statement: Arkansas River Valley Intermodal Facilities, Russellville, AR (Pope County)

AGENCY: Federal Highway Administration, DOT.

ACTION: Notice of intent to prepare an EIS.

SUMMARY: The Federal Highway Administration (FHWA) in a joint venture with the Arkansas State Highway and Transportation Department (AHTD) and the River Valley Regional Intermodal Facilities Authority (RVRIFA) is issuing this notice to advise the public of its intent to prepare an Environmental Impact Statement (EIS) to develop a regional intermodal facility in the Arkansas River Valley. This project is intended to improve regional and national transportation, to serve existing industry, and to provide services necessary to promote economic development in the six-county Arkansas River Valley region (Conway, Johnson, Logan, Perry, Pope, and Yell Counties).

FOR FURTHER INFORMATION CONTACT: Mr. Randal Looney, Environmental Specialist, 501-324-6430.

ADDRESSES: Federal Highway Administration “ Arkansas Division Office, 700 West Capitol Avenue, Room 3130, Little Rock, AR 72201-3298.

SUPPLEMENTARY INFORMATION: The Arkansas River Valley Intermodal Facilities project would include local roadway access to Interstate (I-40) highway connections via State Highway 7 and access to the Dardanelle Russellville Railroad development. A slackwater harbor along the McClellan-Kerr Arkansas River Navigation System (MKARNS), which would connect the intermodal facilities to the U.S. Inland Waterway System, would be constructed. Additional services at the intermodal facility would include on-site rail/truck transfers, truck/water transfers, rail/water transfers, freight tracking, a foreign trade sub-zone, warehousing, distribution, consolidation, just-in-time inventory services, and material storage capabilities.

There are currently three public ports/terminals along the Arkansas segment of the MKARNS located in Pine Bluff, Little Rock, and Fort Smith. There are no public use facilities within 30 miles of the study area, however there are three private docks within 30 miles of the study area including the following: Pine Bluff Sand & Gravel, the Port of Dardanelle; and Oakley Port.

With this notice of intent, FHWA, AHTD, and RVRIFA are initiating the National Environmental Policy Act (NEPA) process for the Arkansas River Valley Intermodal Facilities project to study the potential transportation improvements in the region. As part of the NEPA process, the purpose and need will be developed with regional and national needs and goals in mind.

The NEPA process to support this intermodal facility was initiated by the development of an Environmental Assessment (EA) with a defined purpose and need and supporting alternatives. The EA was approved for public dissemination by FHWA in November 2002, however it was determined that further study would be required and a Finding of No Significant Impact (FONSI) would not be issued by FHWA for the project. Further study in the proposed EIS will include a refinement of purpose and need for the project, alternatives development and screening based on social, environmental, and economic impacts of the proposed project. Recognizing that NEPA requires the consideration of a reasonable range of alternatives that will address the purpose and need, the EIS will include a range of alternatives for detailed study consisting of a no-build alternative, several build alternatives, as well as alternatives consisting of transportation system management strategies, improvements to existing facilities, and/or new alignment of facilities. These alternatives will be developed, screened, and carried forward for detailed analysis in the Draft Environmental Impact Statement (DEIS) based on their ability to address the project purpose and need while avoiding adverse impacts to known and sensitive resources. Letters describing the proposed NEPA study and soliciting input will be sent to the appropriate Federal, State, and local agencies who have expressed or are known to have an interest or legal role in this proposal. It is anticipated that at least one formal agency scoping meeting will be held as part of the NEPA process, in the vicinity of the project, to facilitate local, State, and Federal agency involvement and input into the project in an effort to identify all of the issues that need to be addressed in developing the EIS. Tribal consultation will also be an important part of the scoping process. Private organizations, citizens, and interest groups will also have an opportunity to provide input into the development of the Environmental Impact Statement and identify issues that should be addressed. A Public Involvement Plan will be developed to involve the public in the project development process. This plan will utilize outreach efforts to provide information and solicit input such as informal meetings, public information meetings, public hearings, and other efforts as necessary and appropriate. Notices of public meetings or public hearings will be given through various forums providing the time and place of the meeting along with other relevant information. The DEIS will be available for public and agency review and comment prior to the public hearings.

To ensure that the full range of issues related to this proposed action are identified and taken into account, comments and suggestions are invited from all interested parties. Comments and questions concerning the proposed action and Draft Environmental Impact Statement should be directed to FHWA at the address provided above.

(Catalog of Federal Domestic Assistance Program Number 20.205, Highway Planning and Construction. The regulations implementing Executive Order 12372 regarding intergovernmental consultation on Federal programs and activities apply to this proposed action)

Authority: 23 U.S.C. 315; 49 CFR 1.48.

Issued on: November 16, 2004.
Sandra L. Otto,
Division Administrator, FHWA, Little Rock, Arkansas.

[FR Doc. 04-26229 Filed 11-26-04; 8:45 am]

BILLING CODE 4910-22-P